EXPORT-IMPORT BANK OF THE UNITED STATES

Notice of Open Meeting of the Advisory Committee of the Export-Import Bank of the United States (EXIM Bank)

SUMMARY: The Advisory Committee was established by P.L. 98-181, November 30, 1983, to advise the Export-Import Bank on its programs and to provide comments for inclusion in the report on competitiveness of the Export-Import Bank of the United States to Congress.

Time and Place: Thursday, April 7, 2016 from 7:30 a.m. until 8:00 a.m. and 4:00 p.m. until 5:00 p.m. The meeting will be held at the Omni Shoreham Hotel in the Cabinet Room—lobby level, 2500 Calvert Street NW., Washington, DC 20008.

Agenda: Agenda items include updates for the Advisory Committee members regarding: past recommendations and 2016 recommendations, EXIMs business and pipeline, and EXIMs report on competitiveness to Congress.

Public Participation: The following portions of the meeting will be open to public participation: 7:30 a.m.-8 a.m. and from 4:00 p.m.-5:00 p.m., and 10 minutes will be set aside for oral questions or comments. Members of the public may also file written statement(s) before or after the meeting. If you plan to attend, a photo ID must be presented at the sign-in table in the meeting room, you may contact Tia Pitt at tia.pitt@exim.gov to have your name placed on an attendee list. If any person wishes auxiliary aids (such as a sign language interpreter) or other special accommodations, please email Tia Pitt at tia.pitt@exim.gov by April 1, 2016.

Members of the Press: For members of the Press planning to attend the meeting please email Tia Pitt at tia.pitt@exim.gov to be placed on an attendee list.

FOR FURTHER INFORMATION CONTACT: For further information, contact Tia Pitt, 811 Vermont Ave. NW., Washington, DC 20571, at tia.pitt@exim.gov.

Lloyd Ellis,
Program Specialist, Office of the General Counsel.

[FR Doc. 2016-06907 Filed 3-25-16; 8:45 am]

BILLING CODE 6690-01-P